DEPARTMENT OF ENERGY

Federal Energy Regulatory Commission

Combined Notice of Filings #1

Take notice that the Commission received the following electric corporate filings:

Docket Numbers: EC12-115-000.

Applicants: KCP&L Greater Missouri Operations Company.

Description: FPA Section 203 Application of KCP&L Greater Missouri Operations Company and Request for Expedited Action.

Filed Date: 6/29/12.

Accession Number: 20120629-5289.

Comments Due: 5 p.m. ET 7/20/12.

Take notice that the Commission received the following electric rate filings:

Docket Numbers: ER10-1532-001; ER10-1529-001.

Applicants: Entergy Nuclear Palisades, LLC, Northern Iowa Windpower, LLC.

Description: Updated Market Power Analysis of Entergy Nuclear Palisades, LLC, et al.

Filed Date: 6/29/12.

Accession Number: 20120629-5287.

Comments Due: 5 p.m. ET 8/28/12.

Docket Numbers: ER10-1790-006; ER10-276-002; ER11-3325-002.

Applicants: BP Energy Company, Whiting Clean Energy, Inc., Rolling Thunder I Power Partners, LLC.

Description: Updated market power analysis for Central region of BP Energy Company, Rolling Thunder I Power Partners, LLC, and Whiting Clean Energy, Inc.

Filed Date: 6/29/12.

Accession Number: 20120629-5283.

Comments Due: 5 p.m. ET 8/28/12.

Docket Numbers: ER10-2172-009; ER11-2016-004; ER10-2184-009; ER10-2183-006; ER10-1048-006; ER10-2176-010; ER10-2192-009; ER11-2056-003; ER10-2178-009; ER10-2174-009; ER11-2014-006; ER11-2013-006; ER10-3308-008; ER10-1017-005; ER10-1020-005; ER10-1145-005; ER10-1144-004; ER10-1078-005; ER10-1079-005; ER10-1080-005; ER11-2010-006; ER10-1081-005; ER10-2180-009; ER11-2011-005; ER11-2009-005; ER11-3989-004; ER10-1143-005; ER11-2007-004; ER11-2005-006.

Applicants: Exelon New Boston LLC, Constellation Energy Commodities Group, Inc., Commonwealth Edison Company, Baltimore Gas and Electric Company, Wind Capital Holdings, LLC, CR Clearing, LLC, Constellation Power Source Generation, Inc., Constellation NewEnergy, Inc., Constellation Energy Commodities Group Maine, LLC, Exelon Framingham LLC, Exelon New England Power Marketing, LP, PECO Energy Company, Exelon West Medway, LLC, Exelon Generation Company, LLC, Exelon Energy Company, CER Generation, LLC, Exelon Wyman, LLC, CER Generation II, LLC, Handsome Lake Energy, LLC, Constellation Mystic Power, LLC, Cassia Gulch Wind Park, Michigan Wind 1, LLC, Tuana Springs Energy, LLC, Harvest Windfarm, LLC, Exelon Wind 4, LLC, Criterion Power Partners, LLC, Cow Branch Wind Power, LLC, Michigan Wind 2, LLC.

Description: Updated Market Power Analysis of Baltimore Gas and Electric Company, et al.

Filed Date: 6/29/12.

Accession Number: 20120629-5290.

Comments Due: 5 p.m. ET 8/28/12.

Docket Numbers: ER10-2181-012; ER10-2179-012; ER10-2182-012.

Applicants: R.E. Ginna Nuclear Power Plant, LLC, Nine Mile Point Nuclear Station, LLC, Calvert Cliffs Nuclear Power Plant, LLC.

Description: Change in Status Filing of CENG Nuclear Entities.

Filed Date: 6/29/12.

Accession Number: 20120629-5284.

Comments Due: 5 p.m. ET 7/20/12.

Docket Numbers: ER10-2794-004; ER10-2849-003; ER11-2028-004.

Applicants: EDF Trading North America, LLC, EDF Industrial Power Services (IL), LLC, EDF Industrial Power Services (NY), LLC.

Description: Updated Market Power Analysis for the Central Region of EDF Trading North America, LLC, EDF Industrial Power Services (NY), LLC, and EDF Industrial Power Services (IL), LLC.

Filed Date: 6/29/12.

Accession Number: 20120629-5282.

Comments Due: 5 p.m. ET 8/28/12.

Docket Numbers: ER12-360-001.

Applicants: New York Independent System Operator, Inc.

Description: NYISO Compliance Filing—Market Mitigation Measures for New Capacity Zones to be effective 9/1/2012.

Filed Date: 6/29/12.

Accession Number: 20120629-5257.

Comments Due: 5 p.m. ET 7/20/12.

Docket Numbers: ER12-1926-000.

Applicants: Independence Electricity.

Description: Amendment to Application of Independence Electricity for Market-Based Rate Authority advising of a Corporate Name Change to Union Atlantic Electricity.

Filed Date: 6/29/12.

Accession Number: 20120629-5039.

Comments Due: 5 p.m. ET 7/20/12.

Docket Numbers: ER12-2169-000.

Applicants: New England Power Pool Participants Committee.

Description: Jul 2012 Membership Filing to be effective 6/1/2012.

Filed Date: 6/29/12.

Accession Number: 20120629-5235.

Comments Due: 5 p.m. ET 7/20/12.

Docket Numbers: ER12-2170-000.

Applicants: International Transmission Company.

Description: Filing of Belle River Transmission Ownership and Operating Agreement to be effective 8/29/2012.

Filed Date: 6/29/12.

Accession Number: 20120629-5254.

Comments Due: 5 p.m. ET 7/20/12.

Docket Numbers: ER12-2171-000.

Applicants: Southern California Edison Company.

Description: WDAT Service Agreement with SCE-RAP for CREST to be effective 6/30/2012.

Filed Date: 6/29/12.

Accession Number: 20120629-5255.

Comments Due: 5 p.m. ET 7/20/12.

Docket Numbers: ER12-2172-000.

Applicants: San Diego Gas & Electric Company.

Description: SDGE 2012 Out of Cycle TACBAA Rate Filing to be effective 9/1/2012.

Filed Date: 6/29/12.

Accession Number: 20120629-5258.

Comments Due: 5 p.m. ET 7/20/12.

Take notice that the Commission received the following electric securities filings:

Docket Numbers: ES12-46-000.

Applicants: Entergy Gulf States Louisiana, L.L.C.

Description: Application of Entergy Gulf States Louisiana, LLC, for authorization under FPA Section 204 to consent to borrowings, etc.

Filed Date: 6/29/12.

Accession Number: 20120629-5286.

Comments Due: 5 p.m. ET 7/20/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2012.
Nathaniel J. Davis, Sr.,
Deputy Secretary.

[FR Doc. 2012-16955 Filed 7-11-12; 8:45 am]

BILLING CODE 6717-01-P